DEPARTMENT OF TRANSPORTATION

Federal Motor Carrier Safety Administration

[Docket No. FMCSA-2018-0141]

Parts and Accessories Necessary for Safe Operation; Stoneridge, Inc. Application for an Exemption

AGENCY: Federal Motor Carrier Safety Administration (FMCSA), DOT.

ACTION: Notice of application for exemption; request for comments.

SUMMARY: The Federal Motor Carrier Safety Administration (FMCSA) requests public comment on an exemption application from Stoneridge, Inc. (Stoneridge) to allow motor carriers to operate commercial motor vehicles (CMVs) with the company's MirrorEye™ Camera Monitor System (CMS) installed as an alternative to the two rear-vision mirrors required by the Federal Motor Carrier Safety Regulations (FMCSRs). Stoneridge explained that it has developed, tested and manufactured the CMS to improve CMV safety by providing driver with an enhanced field of view around the cab of the truck. The company states that its MirrorEye™ CMS meets the performance requirements provided for conventional mirrors under the National Highway Traffic Safety Administration (NHTSA)'s standards which are cross-referenced by the FMCSRs. Stoneridge believes the exemption would maintain a level of safety that is equivalent to, or greater than, the level of safety achieved without the exemption because CMS meets or exceeds the performance requirements for traditional mirrors.

DATES: Comments must be received on or before May 7, 2018.

ADDRESSES: You may submit comments bearing the Federal Docket Management System (FDMS) Docket ID FMCSA-2018-0141 using any of the following methods:

• Website: http://www.regulations.gov. Follow the instructions for submitting comments on the Federal electronic docket site.

• Fax: 1-202-493-2251.

• Mail: Docket Management Facility, U.S. Department of Transportation, Room W12-140, 1200 New Jersey Avenue SE, Washington, DC 20590-0001.

• Hand Delivery: Ground Floor, Room W12-140, DOT Building, 1200 New Jersey Avenue SE, Washington, DC, between 9 a.m. and 5 p.m. e.t., Monday-Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE, Washington, DC, between 9 a.m. and 5 p.m., Monday through Friday, except Federal holidays.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public participation: The http://www.regulations.gov website is generally available 24 hours each day, 365 days each year. You may find electronic submission and retrieval help and guidelines under the “help” section of the http://www.regulations.gov website as well as the DOT's http://docketsinfo.dot.gov website. If you would like notification that we received your comments, please include a self-addressed, stamped envelope or postcard or print the acknowledgment page that appears after submitting comments online.

FOR FURTHER INFORMATION CONTACT: Mr. Luke W. Loy, Vehicle and Roadside Operations Division, Office of Carrier, Driver, and Vehicle Safety, MC-PSV, (202) 366-0676, Federal Motor Carrier Safety Administration, 1200 New Jersey Avenue SE, Washington, DC 20590-0001.

SUPPLEMENTARY INFORMATION:

Background

Under Agency regulations, FMCSA must publish a notice of each exemption request in the Federal Register (49 CFR 381.315(a)). The Agency must provide the public with an opportunity to inspect the information relevant to the application, including any safety analyses that have been conducted. The Agency must also provide an opportunity for public comment on the request.

The Agency reviews the safety analyses and the public comments and determines whether granting the exemption would likely achieve a level of safety equivalent to or greater than the level that would be achieved by the current regulation (49 CFR 381.305). The decision of the Agency must be published in the Federal Register (49 CFR 381.315(b)). If the Agency denies the request, it must state the reason for doing so. If the decision is to grant the exemption, the notice must specify the person or class of persons receiving the exemption and the regulatory provision or provisions from which an exemption is granted. The notice must specify the effective period of the exemption (up to 5 years) and explain the terms and conditions of the exemption. The exemption may be renewed (49 CFR 381.315(c) and 49 CFR 381.300(b)).

Stoneridge Application for Exemption

Stoneridge has applied for an exemption from 49 CFR 393.80(a) to allow its MirrorEye™ CMS to be installed as an alternative to the two rear-vision mirrors required on CMVs. A copy of the application is included in the docket referenced at the beginning of this notice.

Section 393.80(a) of the FMCSRs requires that each bus, truck, and truck-tractor be equipped with two rear-vision mirrors, one at each side. The mirrors must be positioned to reflect to the driver a view of the highway to the rear, and the area along both sides of the CMV. Section 393.80(a) cross-references NTHSA's standards for mirrors on motor vehicles (49 CFR 571.111, Federal Motor Vehicle Safety Standard [FMVSS] No. 111). Paragraph S7.1 of FMVSS No. 111 provides requirements for mirrors on multipurpose passenger vehicles and trucks with a gross vehicle weight rating (GVWR) greater than 4,536 kg and less than 11,340 kg and each bus, other than a school bus, with a GVWR of more than 4,536 kg. Paragraph S8.1 provides requirements for mirrors on multipurpose passenger vehicles and trucks with a GVWR of 11,340 kg or more.

The MirrorEye™ CMS consists of multiple digital cameras mounted on the exterior of the CMV and enclosed in an aerodynamic package that provides both environmental protection for the cameras and a mounting location for optimal visibility. Each camera has video processing software that presents a clear, high-definition image to the driver by means of a monitor mounted to each A-pillar of the CMV, i.e., the structural member between the windshield and door of the cab. The company explains that attaching the monitors to the A-pillars avoids the creation of incremental blind spots while eliminating the blind spots associated with conventional mirrors. Stoneridge states that its CMS meets or exceeds the visibility requirements provided in FMVSS No. 111 based on several factors:

• Greater field of view (FOV) than conventional mirrors—Mirrors are replaced by wide angle, narrow angle and look-down cameras expanding the FOV by an estimated 25%.

• Fail-safe design—The CMS has independent video processing of multiple camera images so that in the unlikely event of an individual camera failure, the other camera images continue to be displayed. This ensures that real-time images are continuously displayed without interruption.

• Augmented and enhanced vision quality—The use of high-definition digital cameras provides for color night vision, low light sensitivity and trailer panning capabilities. This assists with night driving, operating under other low lighting conditions, and provides for glare reduction.

• Trailer panning—The CMS automatically tracks the end of the trailer to keep it in view while the vehicle is moving forward. Stoneridge believes this feature could eliminate collisions associated with the CMV driver making a right-hand turn, and incidents where the CMV strikes a pedestrian or bicyclist while making right hand turns.

Stoneridge also believes use of its CMS may help to reduce driver fatigue by requiring less head movement by drivers compared to the number of head movement needed to use conventional mirrors. The company claims that use of its CMS provides improved fuel economy because the housing for the system is more aerodynamic than the conventional mirrors required by § 393.80(a).

The exemption would apply to all CMV operators driving vehicles with the MirrorEye™ CMS. Stoneridge believes that mounting the system as described would maintain a level of safety that is equivalent to, or greater than, the level of safety achieved without the exemption.

Request for Comments

In accordance with 49 U.S.C. 31315 and 31136(e), FMCSA requests public comment from all interested persons on Stoneridge's application for an exemption from 49 CFR 393.80(a). All comments received before the close of business on the comment closing date indicated at the beginning of this notice will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Issued on: March 29, 2018.
Larry W. Minor,
Associate Administrator for Policy.

[FR Doc. 2018-06964 Filed 4-4-18; 8:45 am]

BILLING CODE 4910-EX-P